DEPARTMENT OF THE INTERIOR

Fish and Wildlife Service

[FWS-R5-R2010-N147; BAC-4311-K9-S3]

Supawna Meadows National Wildlife Refuge, Salem County, NJ

AGENCY: Fish and Wildlife Service, Interior.

ACTION: Notice of availability; request for comments: draft comprehensive conservation plan/environmental assessment.

SUMMARY: We, the U.S. Fish and Wildlife Service (Service), announce the availability of the draft comprehensive conservation plan (CCP) and the environmental assessment (EA) for Supawna Meadows National Wildlife Refuge (NWR), located in Salem County, New Jersey. The refuge is administered by staff located at Cape May NWR in Cape May County, New Jersey. The draft CCP/EA describes three alternatives, including our Service-preferred alternative, for managing this refuge for the next 15 years. Also available for public review and comment are the draft compatibility determinations for uses to be allowed upon initial completion of the plan if Alternative B is selected. These are included as appendix B in the draft CCP/EA.

DATES: To ensure our consideration of your written comments, please send them no later than October 27, 2010. We will also hold public meetings in Pennsville, New Jersey. We will announce and post details of the public meetings in local news media, via our project mailing list, and on our Regional planning Web site, http://www.fws.gov/northeast/planning/SupawnaMeadows/ccphome.html.

ADDRESSES: Send your comments or requests for copies of the draft CCP/EA by one of the following methods.

U.S. Mail: Lia McLaughlin, Natural Resource Planner, U.S. Fish and Wildlife Service, 300 Westgate Center Drive, Hadley, MA 01035.

Facsimile: Attention: Lia McLaughlin, 413-253-8468.

Electronic mail: northeastplanning@fws.gov. Please put the words “Supawna Meadows NWR CCP” in the subject line of your electronic mail.

Agency Web site: View or download the draft document on the Web at http://library.fws.gov/RefugePlanningDocuments.html.

FOR FURTHER INFORMATION CONTACT: Howard Schlegel, Refuge Manager, Cape May NWR, 24 Kimbles Beach Road, Cape May Court House, NJ 08210; phone: 609-463-0994; facsimile: 609-463-1667; or electronic mail: capemaynwr@fws.gov.

SUPPLEMENTARY INFORMATION:

Introduction

This notice continues the CCP process for Supawna Meadows NWR. This draft CCP/EA for Supawna NWR combines two documents required by Federal laws: A CCP, required by the National Wildlife Refuge System Administrative Act of 1966 (16 U.S.C. 668 dd-ee) (Administration Act), as amended by the National Wildlife Refuge System Improvement Act of 1997; and an EA, required by the National Environmental Policy Act of 1969 (NEPA), as amended (42 U.S.C. 4321-4347). We published our original notice of intent to prepare a CCP in the Federal Register on September 24, 2007 (72 FR 54280).

Supawna Meadows NWR currently includes 3,016 acres of marsh, grassland, shrubland, and forest habitats. The approved acquisition boundary encompasses 4,527 acres along the Upper Delaware Bay in Salem County. The refuge was originally established as the Goose Pond addition to the Killcohook NWR (currently termed Killcohook Dredge Spoil Disposal Area), which was established by Executive Order 6582 on February 3, 1934, and was renamed as Supawna Meadows NWR in 1974. Supawna Meadows NWR was established to benefit migratory birds, breeding birds, wild animals, protect natural resources, and provide opportunities for suitable wildlife-oriented recreation.

Refuge visitors engage in wildlife observation and photography, hunting, and fishing. Portions of the refuge are open to deer hunting, waterfowl hunting, and fishing and crabbing per State regulations. Finns Point Rear Range Light, listed on the National Register of Historic Places, draws a number of visitors as well.

Background

The CCP Process

CCPs provide refuge managers with 15-year plans for achieving refuge purposes and the mission of the National Wildlife Refuge System (NWRS), in conformance with sound principles of fish and wildlife management, legal mandates, and our policies. In addition to outlining broad management direction on conserving wildlife and their habitats, CCPs identify opportunities for wildlife-dependent recreation available to the public, which includes opportunities for hunting, fishing, observing and photographing wildlife, and participating in environmental education and interpretation programs. We will review and update each CCP at least every 15 years, in accordance with the Administration Act.

Public Outreach

In August 2007, we published and distributed our first newsletter. In September 2007, we held two public scoping meetings in Pennsville, New Jersey. The purpose of those meetings was to solicit comments from the community and other interested parties on the scope of the CCP and the issues and impacts that should be evaluated in the CCP/EA. Throughout the process, we have conducted additional outreach via participation in community meetings, events, and other public forums, and requested public input on managing the refuge and its programs.

Some key issues expressed by the public and partners meetings included:

• Identifying which key species should be focused on for management;

• Managing invasive, exotic, and overabundant species;

• Managing impoundments and forested wetlands;

• Managing nonpriority public uses on the refuge, such as dog walking;

• Conducting community outreach efforts for support of the Service mission and refuge-established purposes;

• Expanding the refuge through land acquisition;

• Staffing and funding necessary to complete priority projects;

• Protecting cultural and historic resources; and,

• Conducting scientific research.

CCP Actions We Are Considering, Including the Service-Preferred Alternative

We developed three management alternatives based on the purposes for establishing the refuge, its vision and goals, and the issues and concerns of the public, State agencies, and the Service that arose during the planning process. The alternatives share some actions in common, such as acquiring land within the current refuge acquisition boundary, protecting cultural resources, distributing refuge revenue sharing payments, and monitoring water quality. There are also some actions shared by Alternatives A and B only. These include assessing public use opportunities on the acquired lands, monitoring and abating wildlife diseases, and supporting biological and ecological research investigations.

Other actions distinguish the alternatives. The draft CCP/EA describes the alternatives in detail, and relates them to the issues and concerns. Highlights follow.

Alternative A (Current Management)

This alternative is the “No Action” alternative required by NEPA. Alternative A (current management) satisfies the NEPA requirement of a “No Action” alternative, which we define as “continuing current management.” It describes our existing management priorities and activities, and serves as a baseline for comparing and contrasting Alternatives B and C. It would maintain our present levels of approved refuge staffing and the biological and visitor programs now in place. We would continue to focus efforts on providing native tidal marsh habitat for Federal trust resources, in particular, for migrating and nesting wading birds, wintering habitats for marshbirds, waterfowl, shorebirds, and other wildlife. We would continue to actively manage tidal marsh and grassland habitats and would maintain dikes and water levels on impoundments that have water control structures.

Alternative B (Focus on Species of Conservation Concern)

This alternative is the Service-preferred alternative. It combines the actions we believe would most effectively achieve refuge purposes, vision, and goals, and respond to public issues. This alternative emphasizes management of specific refuge habitats to support Federal trust resources and species of conservation concern in the area. In particular, the priority would be to protect and restore the refuge's native tidal marsh habitat to benefit Pea Patch Island colonial-breeding wading birds, as well as secretive marshbirds, migratory waterfowl, shorebirds, and other birds of conservation concern. A secondary consideration would be to manage a diversity of other refuge wetland and upland habitats to benefit breeding and migrating songbirds, waterfowl, and raptors, as well as amphibians, reptiles, and mammals of conservation concern. Our Visitor Services program would be enhanced to provide more opportunities for a wide variety of compatible wildlife-dependent activities. In 2005, the Northeast Regional Visitor Services Review Team identified visitor programs of emphasis for each refuge. The programs identified for this refuge are interpretation and wildlife observation and photography. The determination of programs for Supawna Meadows NWR was based on careful consideration of our natural resources, existing staff, operational funds, existing and potential facilities, and which programs we would be most effective in providing “quality” opportunities for visitors.

Alternative C (Cease Management and Close Refuge to Public Uses)

Under this alternative, we would close Supawna Meadows NWR to all public uses and cease all habitat management activities. There would be no funding allocated for any projects at the refuge. This alternative would only partially achieve the refuge purposes, vision, and goals, and respond to public issues, however, budgetary constraints make it a reasonable alternative to consider. Under this alternative, the public would be notified of the closure, and appropriate signage would be placed on all buildings and along the refuge boundary. Cape May NWR staff would conduct semiannual site inspections requiring about 40 staff hours per year. We would continue to meet our trust obligations under the Endangered Species Act, which requires us to take measures to benefit the recovery of any federally listed species that might be found on the refuge in the future. We would also continue to comply with the National Historic Preservation Act by maintaining Finns Point Rear Range Light.

Public Meetings

We will give the public opportunities to provide input at public meetings in Pennsville, New Jersey, near the refuge. You can obtain the schedule from the refuge manager or natural resource planner, or visit the planning Web site (see addresses or FOr Further Information CONTACT, above). You may also submit comments at any time during the public comment period, by any means shown in the ADDRESSES section.

Public Availability of Comments

Before including your address, phone number, electronic mail address, or other personal identifying information in your comment, you should be aware that your entire comment—including your personal identifying information—may be made publicly available at any time. While you can ask us in your comment to withhold your personal identifying information from public review, we cannot guarantee that we will be able to do so.

Dated: August 20, 2010.
Anthony D. Léger,
Acting Regional Director, U.S. Fish and Wildlife Service, Hadley, MA 01035.

[FR Doc. 2010-23871 Filed 9-24-10; 8:45 am]

BILLING CODE 4310-55-P